NATIONAL SCIENCE FOUNDATION

Advisory Committee for Mathematical and Physical Sciences #66; Notice of Meeting

In accordance with the Federal Advisory Committee Act (Pub. L. 92-463, as amended), the National Science Foundation announces the following meeting.

Name: Advisory Committee for Mathematical and Physical Sciences (#66).

Dates/Time: July 18, 2013 1:00 p.m.-5:15 p.m.

Place: National Science Foundation (NSF), Room 1235, 4201 Wilson Boulevard, Arlington, VA 22230.

To help facilitate your entry into the building, contact Caleb Autrey (cautery@nsf.gov). Your request should be received on or prior to July 15, 2013.

To attend virtually via WebEx video: the phone-in number is: 1-866-844-9416 (operator password: mpsac) The web address is: https://mmancusa.webex.com/mmancusa/j.php?ED=211441467&UID=490505487&PW=NMWQzM2ZmYjQx&RT=MiMxMQ%3D%3D.

Operated Assisted teleconference service is available for this meeting. Call 1-888-393-0286. (password: mpsac). You will be connected to the audio portion of the meeting.

Type of Meeting: Open, Virtual.

Contact Person: Dr. Kelsey Cook, Staff Associate and MPSAC Designated Federal Officer, Directorate for Mathematical and Physical Sciences, National Science Foundation, 4201 Wilson Blvd., Arlington, VA 22230 Telephone #: 703 292-7490, 703-292-8800—kcook@nsf.gov.

Minutes: Meeting minutes and other information may be obtained from the Staff Associate and MPSAC Designated Federal Officer at the above address or the Web site at http://www.nsf.gov/mps/advisory.jsp.

Purpose of Meeting: To study data, programs, policies, and other information pertinent to the National Science Foundation and to provide advice and recommendations concerning research in mathematics and physical sciences.

Agenda

State of the Directorate for Mathematical and Physical Sciences (MPS): FY 13, 14, and 15

Report on the NSF Strategic Plan

Briefing on the NRC Magnet Science Report

Update from StatsNSF Subcommittee

Update from Synchrotron Science Subcommittee

Update from Food Systems Subcommittee

Update from Optics and Photonics Subcommittee

Briefing on the NRC Math 2025 Report

Report from the Career Task Force

ACCI Interface: Planning for Joint Meeting Nov. 7-8, 2013

New challenges/subcommittees

Dated: June 18, 2013.
Susanne Bolton,
Committee Management Officer.

[FR Doc. 2013-14839 Filed 6-20-13; 8:45 am]

BILLING CODE 7555-01-P